DEPARTMENT OF DEFENSE

GENERAL SERVICES ADMINISTRATION

NATIONAL AERONAUTICS AND SPACE ADMINISTRATION

[OMB Control No. 9000-0169; Docket 2010-0083; Sequence 21]

Submission for OMB Review; American Recovery and Reinvestment Act—Quarterly Reporting for Prime Contractors

AGENCIES: Department of Defense (DoD), General Services Administration (GSA), and National Aeronautics and Space Administration (NASA).

ACTION: Withdrawal of Notice.

SUMMARY: The notice, OMB Control No. 9000-0169, American Recovery and Reinves tment Act—Quarterly Reporting for Prime Contractors published in the Federal Register is being withdrawn and no longer is accepting comments.

DATES: April 30, 2010

FOR FURTHER INFORMATION CONTACT: Mr. Ernest Woodson, Procurement Analyst, Contract Policy Branch, at telephone (202) 501-3775 or via e-mail to ernest.woodson@gsa.gov. Please cite OMB Control No. 9000-0169, withdrawal.

SUPPLEMENTARY INFORMATION:

A. Background

The Notice, published in the Federal Register at 75 FR 17919, on April 8, 2010, requesting comments regarding an extension to an existing OMB clearance (9000-0169) is being withdrawn. The notice is being withdrawn because it is associated with a second interim rule which is still in process, and has not been published. Comments are no longer being sought.

Dated: April 26, 2010.
Al Matera,
Director, Acquisition Policy Division.

[FR Doc. 2010-10071 Filed 4-29-10; 8:45 am]

BILLING CODE 6820-EP-P